DEPARTMENT OF HEALTH AND HUMAN SERVICES

National Institutes of Health

National Institute of Mental Health; Notice of Meeting

Pursuant to section 10(a) of the Federal Advisory Committee Act, as amended (5 U.S.C. App.), notice is hereby given of a joint conference call of the Interagency Autism Coordinating Committee (IACC) Subcommittee on Safety and the IACC Services Subcommittee.

The IACC Subcommittee on Safety and Services Subcommittee will be having a joint conference call on Monday, July 11, 2011. The two subcommittees plan to discuss issues related to seclusion and restraint and autism spectrum disorder (ASD).

Name of Committee: Interagency Autism Coordinating Committee (IACC).

Type of Meeting: Subcommittee on Safety and Services Subcommittee Joint, Conference Call.

Date: July 11, 2011.

Time: 2 p.m. to 4 p.m. Eastern Time.

Agenda: The Services and Safety Subcommittees of the IACC will meet jointly to discuss issues related to seclusion and restraint and autism spectrum disorder (ASD).

Place: No in-person meeting; conference call only.

Conference Call: Dial: 888-391-6569.

Access code: 3061094,

Contact Person: Ms. Lina Perez, Office of Autism Research Coordination, National Institute of Mental Health, NIH, 6001 Executive Boulevard, NSC, Room 8185a, Rockville, MD 20852, Phone: 301-443-6040, E-mail: IACCPublicInquiries@mail.nih.gov.

Please Note: The conference call will be accessible to the public through a conference call-in number and access code. Members of the public who participate using the conference call phone number will be able to listen to the meeting but will not be heard. If you experience any technical problems with the conference call or webcast, please e-mail IACCTechSupport@acclaroresearch.com or call the IACC Technical Support Help Line at 443-680-0098.

Individuals who participate by using this electronic service and who need special assistance, such as captioning of the conference call or other reasonable accommodations, should submit a request to the Contact Person listed on this notice at least 7 days prior to the meeting.

This notice is being published less than 15 days prior to the meeting due to the urgent need to discuss issues related to seclusion and restraint and autism spectrum disorder (ASD) prior to the next IACC full committee meeting, which will take place on July 19, 2011.

Schedule subject to change.

Information about the IACC is available on the Web site: http://www.iacc.hhs.gov.

Dated: June 23, 2011.
Jennifer S. Spaeth,
Director, Office of Federal Advisory Committee Policy.

[FR Doc. 2011-16460 Filed 6-29-11; 8:45 am]

BILLING CODE 4140-01-P